DEPARTMENT OF THE INTERIOR

Fish and Wildlife Service

[FWS-R1-R-2013-N095; 1265-0000-10137 S3]

Tualatin River National Wildlife Refuge, Washington and Yamhill Counties, OR; Final Comprehensive Conservation Plan and Finding of No Significant Impact for Environmental Assessment

AGENCY: Fish and Wildlife Service, Interior.

ACTION: Notice of availability.

SUMMARY: We, the U.S. Fish and Wildlife Service (Service), announce the availability of the Tualatin River National Wildlife Refuge (refuge) final comprehensive conservation plan (CCP). The CCP includes our finding of no significant impact (FONSI) for the associated environmental assessment (EA). In this final CCP, we describe how we will manage the refuge for the next 15 years.

ADDRESSES: You may view or request a printed or CD-ROM copy of the final CCP and FONSI by any of the following methods.

Web site: Download the CCP at: www.fws.gov/tualatinriver/refugeplanning.htm.

Email: FW1PlanningComments@fws.gov. Include “Tualatin River NWR CCP/EA” in the subject line.

Fax: Attn: Erin Holmes, Project Leader, (503) 625-5947.

U.S. Mail: Erin Holmes, Project Leader, Tualatin River National Wildlife Refuge, 19255 SW Pacific Highway, Sherwood, OR 97140.

In-Person Viewing or Pickup: Tualatin River National Wildlife Refuge, 19255 SW Pacific Highway, Sherwood, OR 97140.

FOR FURTHER INFORMATION CONTACT: Erin Holmes, Project Leader, (503) 625-5944.

SUPPLEMENTARY INFORMATION:

Introduction

With this notice, we finalize the CCP process for the refuge. The Service began this process by publishing a notice of intent in the Federal Register (77 FR 25676; November 3, 2010). We also released the draft CCP/EA to the public through the Federal Register, announcing a 30-day public comment period in a notice of availability (77 FR 64538; October 22, 2012).

The refuge encompasses approximately 2,217 acres in Oregon's northern Willamette Valley, with herbaceous and scrub-shrub wetlands, and wet prairie, oak savanna, woodland, mixed deciduous forest, riparian forest, riverine, and stream habitats.

We announce our decision and the availability of the FONSI for the final CCP in accordance with National Environmental Policy Act (NEPA) (40 CFR 1506.6(b)) requirements. We completed a thorough analysis of impacts on the human environment in the draft CCP/EA.

Background

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Comments

We identified three alternatives for refuge management in the draft CCP/EA, including Alternative 1, our no action alternative. We solicited public comments on the draft CCP/EA, and included a summary of the comments we received and our responses in the final CCP.

Selected Alternative

The final CCP includes detailed information about the refuge, our planning process, the issues we addressed, and Alternative 2, the management alternative we selected for implementation on the refuge. Under Alternative 2 we will balance our management of the refuge's competing management needs and issues. Brief descriptions of key management actions described in Alternative 2 follow:

We will combine the existing fragmented habitats into larger contiguous blocks of native habitat types, and restore relic or disappearing habitats.

Using hydrological modeling, and historic vegetation and soil information, we will restore and increase riparian forest acreage and mixed forest acreage over the next 15 years.

Restored forest habitats will advance our efforts to increase riparian corridor connectivity, and provide habitat for neotropical songbirds and other species.

Restored relic oak habitat acreage will increase to provide habitat for imperiled oak-dependent wildlife.

The acreage of managed wetland ponds will decrease to restore more natural wet prairie habitats to historic vegetation.

Scrub-shrub wetland acreage will increase.

Stream habitat will be restored to facilitate fish passage, and benefit other aquatic species and migratory and resident wildlife.

The refuge will expand public use opportunities including hunting and fishing.

On the Sherwood Unit, existing trails will remain the same, with an additional Environmental Education Off-Trail Study Area and a Nature Explore Area.

Additional photography blinds will be constructed to maximize the photography experience and minimize wildlife disturbances.

A youth waterfowl hunting program will be developed.

A hunt management plan will be developed in close coordination with the State, to determine the season, blind locations, and other details.

We will monitor and adjust the hunt program as needed to provide quality waterfowl hunting and healthy habitat.

We will develop a fishing program with an educational component on the River Overlook.

The CCP will guide us in managing and administering the refuge for the next 15 years. Alternative 2, as we described in the draft CCP, is the foundation for the final CCP. The draft and final CCP and related documents may be found on our Web site (see ADDRESSES).

Dated: May 16, 2013.
Robyn Thorson,
Regional Director, Pacific Region, Portland, Oregon.

[FR Doc. 2013-25600 Filed 10-29-13; 8:45 am]

BILLING CODE 4310-55-P